DEPARTMENT OF ENERGY

Federal Energy Regulatory Commission

[Docket No. CP05-388-000, CP06-1-000]

Southern Natural Gas Company; Florida Gas Transmission Company; Notice of Availability of the Draft Environmental Impact Statement for the Proposed Cypress Pipeline Project and Phase VII Expansion Project

December 30, 2005.

The staff of the Federal Energy Regulatory Commission (Commission or FERC) has prepared a draft environmental impact statement (EIS) on the natural gas pipeline facilities proposed by Southern Natural Gas Company (Southern) and Florida Gas Transmission Company (FGT) in the above-referenced dockets. Southern's Cypress Pipeline Project would be located in various counties in southern Georgia and northern Florida. FGT's Phase VII Expansion Project (FGT Expansion Project) would be located in various counties in northern and central Florida.

The draft EIS was prepared to satisfy the requirements of the National Environmental Policy Act. The FERC staff concludes that the proposed projects, with the appropriate mitigation measures as recommended, would have limited adverse environmental impact.

The U.S. Army Corps of Engineers (COE) is participating as a cooperating agency in the preparation of the EIS because the projects would require permits pursuant to section 404 of the Clean Water Act (33 United States Code (USC) 1344) and section 10 of the Rivers and Harbors Act (33 U.S.C. 403). The COE would adopt the EIS per Title 40 Code of Federal Regulations (CFR) part 1506.3 if, after an independent review of the document, it concludes that its comments and suggestions have been satisfied.

The draft EIS addresses the potential environmental effects of the construction and operation of the following facilities:

Cypress Pipeline Project

• About 166.6 miles of new 24-inch-diameter mainline pipeline (mainline) in Effingham, Chatham, Bryan, Liberty, Long, McIntosh, Glynn, Camden, and Charlton Counties Georgia, and Nassau, Duval, and Clay Counties, Florida;

• About 9.8 miles of new 30-inch-diameter pipeline loop (loop) ¹ in Chatham and Effingham Counties, Georgia;

¹ A loop is a segment of pipeline that is usually installed adjacent to an existing pipeline and connected to it at both ends. The loop allows more gas to be moved through the system.

• About 0.1 mile of 12-inch-diameter lateral pipeline in Duval County, Florida;

• Three new 10,350 horsepower (hp) gas-turbine-driven compressor stations in Liberty and Glynn Counties, Georgia, and in Nassau County, Florida;

• Four new meter stations in Glynn County, Georgia, and in Nassau, Duval, and Clay Counties, Florida;

• Modifications at two existing meter stations in Chatham and Cobb Counties, Georgia, and expansion of one meter station in Effingham County, Georgia;

• 16 new block valves including 14 associated with the new mainline and two associated with the new loop; and

• Four new pig ² launcher/receiver facilities, including two in Effingham County, Georgia, one in Glynn County, Georgia, and one in Clay County, Florida, each collocated with new or existing meter stations or new compressor station sites.

² A pig is an internal tool that can be used to clean and dry a pipeline and/or to inspect it for damage or corrosion.

Southern proposes to construct its pipeline facilities in three phases. Construction of Phase I would begin in October, 2006 and be in service by May, 2007. Construction of Phase II would begin in fall 2008 and be in service by May, 2009. Construction of Phase III would begin in fall 2009 and be in service by May, 2010.

FGT Phase VII Expansion Project

• About 32.6 miles of new 36-inch-diameter pipeline in three separate loops in Gilchrist, Levy, and Hernando Counties, Florida;

• Replacement and upgrades to existing compressors for a net increase of about 7,800 hp at FGT's Compressor Station no. 26 in Citrus County, Florida;

• Replacement of an existing compressor to add about 2,000 hp at FGT's existing Compressor Station no. 24 in Gilchrist County, Florida;

• Miscellaneous modifications and upgrades to existing compressors with no increases in hp at FGT's Compressor Station nos. 16, 27, and 17 in Bradford, Hillsborough, and Marion Counties, Florida, respectively;

• A new interconnection with Southern's new mainline in Clay County, Florida;

• Modifications to five existing metering and/or regulation stations in Clay, Polk, Bradford, and Duval Counties, Florida; and

• New remote blowdown piping associated with the new pipeline loops at two locations in Levy County and two locations in Hernando County, Florida.

FGT proposes to construct its pipeline facilities in two phases. Construction of Phase I would begin in October, 2006 and be in service by May, 2007. Phase II is planned to begin in October, 2008 and be in service by May, 2009.

Comment Procedures and Public Meetings

Any person wishing to comment on the draft EIS may do so. To ensure consideration of your comments on the proposal in the final EIS, it is important that we receive your comments before the date specified below. Please carefully follow these instructions so that your comments are properly recorded:

• Send an original and two copies of your letter to: Magalie R. Salas, Secretary, Federal Energy Regulatory Commission, 888 First Street, NE., Room 1A, Washington, DC 20426;

• Label one copy of your comments for the attention of the Gas Branch 1, PJ11.1.

• Reference Docket Nos. CP05-388-000 and/or CP06-1-000 on the original and both copies; and

• Mail your comments so that they will be received in Washington, DC on or before February 20, 2006.

The Commission encourages electronic filing of comments, interventions, or protests of this proceeding. See Title 18 Code of Federal Regulations (CFR) part 385.2001(a)(1)(iii) and the instructions on the Commission's Internet Web site at http://www.ferc.gov under the “eFiling” link and the link to the User's Guide. Prepare your submission in the same manner as you would if filing on paper and save it to a file on your hard drive. Before you can file comments, you will need to create an account by clicking on “Sign-up” under “New User.” You will be asked to select the type of filing you are making. This filing is considered a “Comment on Filing.”

In addition to or in lieu of sending written comments, the FERC invites you to attend the public comment meetings the staff will conduct in the project area to receive comments on the draft EIS. All meetings will begin at 7 p.m., and are scheduled as follows:

Date | Location
Monday, February 6, 2006 | Bloomingdale Community Center, 202 East Moore Street, Bloomingdale, Georgia 31302.
Tuesday, February 7, 2006 | Embassy Suites, 500 Mall Boulevard, Glynn Place Mall, Brunswick, Georgia 31525.
Wednesday, February 8, 2006 | Holiday Inn, 6802 Commonwealth Ave., Jacksonville, Florida 32244.
Thursday, February 9, 2006 | Best Western Weeky Wachee, Highway 19 and Highway 50, Brooksville, FL 34601.

Interested groups and individuals are encouraged to attend and present oral comments on the draft EIS. Transcripts of the meetings will be prepared.

After the comments are reviewed, any significant new issues are investigated, and modifications are made to the draft EIS, a final EIS will be published and distributed by the FERC staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Anyone may intervene in this proceeding based on this draft EIS. You must file your request to intervene as specified above.³ You do not need intervenor status to have your comments considered.

³ Interventions may also be filed electronically via the Internet in lieu of paper. See the previous discussion on filing comments electronically.

The draft EIS has been placed in the public files of the FERC and the COE and is available for public inspection at:

Federal Energy Regulatory Commission, Public Reference Room, 888 First Street, NE, Room 2A, Washington, DC 20426, (202) 502-8371.

U.S. Army Corps of Engineers, Jacksonville District, 701 San Marco Boulevard, Jacksonville, Florida 32207, (904) 232-1472.

A limited number of copies are available from the FERC's Public Reference Room identified above. In addition, copies of the draft EIS have been mailed to Federal, state, and local government agencies; elected officials; Native American tribes; local libraries and newspapers; intervenors in the FERC's proceeding; individuals who provided scoping comments; and affected landowners and individuals who requested the draft EIS.

To reduce printing and mailing costs for the final EIS, the FERC will be issuing that document in both CD and hard-copy formats. In a separate mailing, the parties on the current mailing list for the draft EIS will be sent a postcard providing an opportunity for them to select which format of the final EIS they wish to receive. The FERC is strongly encouraging the use of the CD format in their publication of large documents.

Additional information about the project is available from the Commission's Office of External Affairs, at 1-866-208-FERC (3372) or on the FERC Internet Web site (http://www.ferc.gov). Using the “eLibrary” link, select “General Search” from the eLibrary menu, enter the selected date range and “Docket Number,” excluding the last three digits in the Docket Number field (i.e., CP05-388 and/or CP06-1), and follow the instructions. You may also search using the phrase “Cypress Pipeline Project” or “FGT Phase VII Expansion Project” in the “Text Search” field. For assistance with access to eLibrary, the helpline can be reached at 1-866-208-3676, TTY (202) 502-8659, or at FERCOnlineSupport@ferc.gov. The eLibrary link on the FERC Internet website also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Information concerning the involvement of the COE is available from Jon Soderberg at 904-232-1472.

Magalie R. Salas,
Secretary.

[FR Doc. E6-186 Filed 1-11-06; 8:45 am]

BILLING CODE 6717-01-P